FEDERAL RETIREMENT THRIFT INVESTMENT BOARD

Sunshine Act Notice

Time and Date: 9 a.m. (EDT) April 17, 2006.

Place: 4th Floor Conference Room, 1250 H Street, NW., Washington, DC.

Status: Parts will be open to the public and parts closed to the public.

Matters to Be Considered

Parts Open to the Public

1. Approval of the minutes of the March 20, 2006, Board member meeting.

2. Thrift Savings Plan activity report by the Executive Director.

3. Quarterly Reports:

—Investment Policy Report [Board Vote].

—Performance Report.

—Vendor Financial Report.

Parts Closed to the Public

5. Internal personnel matters.

6. Procurement matters.

FOR MORE INFORMATION CONTACT: Thomas J. Trabucco, Director, Office of External Affairs. (202) 942-1640.

Dated: April 5, 2006.
Thomas K. Emswiler,
Acting Secretary to the Federal Retirement Thrift Investment Board.

[FR Doc. 06-3392 Filed 4-5-06; 11:42 am]

BILLING CODE 6760-01-P